SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes a revision to an OMB-approved information collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB), Office of Management and Budget, Attn: Desk Officer for SSA, Fax: 202-395-6974, E-mail address: OIRA_Submission@omb.eop.gov,

(SSA), Social Security Administration, DCBFM, Attn: Reports Clearance Officer, 1332 Annex Building, 6401 Security Blvd., Baltimore, MD 21235, Fax: 410-965-6400, E-mail address: OPLM.RCO@ssa.gov.

I. The information collection below is pending at SSA. SSA will submit it to OMB within 60 days from the date of this notice. Therefore, your comments would be most helpful if you submit them to SSA within 60 days from the date of this publication. Individuals can obtain copies of the collection instrument by calling the SSA Reports Clearance Officer at 410-965-3758 or by writing to the e-mail address listed above.

1. Report of New Information in Disability Cases—20 CFR 404.1588—0960-0071. SSA uses the information it collects on Form SSA-612 to ensure that Federal Old Age, Survivors, and Disability Insurance (OASDI) payments are correct. It is essential that beneficiaries notify SSA of any information that may affect their continuing entitlement to disability benefits. To facilitate and encourage timely reporting of such events, SSA furnishes beneficiaries a Form SSA-612. The beneficiary completes and returns the form to SSA only when there is a change in his/her circumstances. When a beneficiary reports a change, SSA investigates any reported work activity or improvement in the beneficiary's condition, updates its records, and makes necessary payment changes. The respondent's are recipients of Federal OASDI benefits.

Type of Request: Extension of an OMB-approved information collection.

Number of Respondents: 16,000.

Frequency of Response: 1.

Average Burden per Response: 5 minutes.

Estimated Annual Burden: 1,333 hours.

2. You Can Make Your Payment by Credit Card—0960-0462. SSA uses the information on Forms SSA-4588 and SSA-4589 to update an individual's Social Security record to reflect payments made on their overpayment and to effect payment through the appropriate credit card company. SSA is modifying the Form SSA-4588 to include a recurring credit card payment option to allow individuals to authorize automatic monthly payments. SSA sends out the SSA-4588 with initial overpayment notices, which inform individuals that SSA has detected an overpayment. Individuals may choose to make a one-time payment or recurring monthly payments by completing and submitting the SSA-4588.

SSA uses the Form SSA-4589 only when individuals choose to call the Program Service Centers to make payments in lieu of completing the Form SSA-4588. An SSA Debtor Contact Representative completes Form SSA-4589 when a debtor calls to make a payment by telephone. The Debtor Contact Representative also uses the information from Form SSA-4589 to make recurring monthly payments via telephone call with the debtor. Respondents are Title II beneficiaries and Title XVI recipients who have outstanding overpayments.

Type of Request: Revision of an OMB-approved information collection.

Form # | Number of respondents | Frequency of response | Average burden per response (minutes) | Total burden hours
SSA-4588 | 3,500 | 1 | 10 | 583
SSA-4589 | 36,500 | 1 | 5 | 3,042
Totals | 40,000 |  |  | 3,625

3. Credit Card Payment Form—0960-0648. SSA uses the information collected on Form SSA-1414 to process credit card payments from former employees and vendors who have outstanding debts to the agency. SSA also uses the information collected on Form SSA-1414 to process advance payments for reimbursable agreements and to process credit card payments for Freedom of Information Act (FOIA) requests that require payment. The respondents are former employees and vendors who have outstanding debts to the agency, entities who have reimbursable agreements with SSA, and individuals who request information through FOIA.

Type of Request: Extension of an OMB-approved information collection.

Number of Respondents: 100.

Frequency of Response: 1.

Average Burden per Response: 5 minutes.

Estimated Annual Burden: 8 hours.

4. Filing Claims Under the Federal Tort Claims Act—20 CFR 429.101-429.110—0960-0667. SSA uses the information provided by claimants to investigate and determine whether to make an award, compromise, or settlement under the Federal Tort Claims Act. The Federal Tort Claims Act is the legal mechanism for compensating persons injured by negligent or wrongful acts that occur during the performance of official duties by Federal employees. In accordance with the law, SSA accepts monetary claims filed under the Federal Tort Claims Act for damages against the United States for loss of property, personal injury or death that results from an SSA employee's negligent or wrongful act or omission. The respondents are individuals/entities making a claim under the Federal Tort Claims Act.

Type of Request: Extension of an OMB-approved information collection.

CFR section | Annual number of responses | Frequency of response | Average burden per response (minutes) | Estimated annual burden (hours)
429.102; 429.103 ¹ | 1 | — | — | 1
429.104(a) | 30 | 1 | 5 | 3
429.104(b) | 25 | 1 | 5 | 2
429.104(c) | 2 | 1 | 5 | .17
429.106(b) | 10 | 1 | 10 | 2
Totals | 68 |  |  | 8
¹ The one hour represents a placeholder burden. We are not reporting a burden for this collection because respondents complete OMB-approved form SF-95.

II. SSA has submitted the information collections listed below to OMB for clearance. Your comments on the information collections would be most useful if received by OMB and SSA within 30 days from the date of this publication. You can obtain a copy of the OMB clearance packages by calling the SSA Reports Clearance Officer at 410-965-3758, or by writing to the above listed address.

1. Claimant's Work Background—20 CFR 404.1565(b), 20 CFR 416.965(b)—0960-0300. Form HA-4633 collects information needed in assessing an individual's disability within the meaning of the Social Security Act (the Act). SSA uses the information when an individual has requested a hearing before an administrative law judge (ALJ) on whether or not he or she is disabled. The completed HA-4633 provides an updated summary of the individual's relevant work history, which is information the ALJ requires in assessing the claimant's disability within the meaning of the Act. The respondents are claimants for disability benefits under Title II and/or Title XVI who have requested a hearing before an ALJ.

Type of Request: Extension of an OMB-approved information collection.

Number of Respondents: 151,000.

Frequency of Response: 1.

Average Burden per Response: 15 minutes.

Estimated Annual Burden: 37,750 hours.

Dated: November 24, 2008.
Elizabeth Davidson,
Director, Center for Reports Clearance, Social Security Administration.

[FR Doc. E8-28502 Filed 12-1-08; 8:45 am]

BILLING CODE 4191-02-P